OFFICE OF SCIENCE AND TECHNOLOGY POLICY

Request for Information to the Update of the National Artificial Intelligence Research and Development Strategic Plan

AGENCY: Office of Science and Technology Policy.

ACTION: Request for information.

SUMMARY: The Office of Science and Technology Policy, on behalf of the National Science and Technology Council's (NSTC) Select Committee on Artificial Intelligence (Select Committee), the NSTC Machine Learning and AI Subcommittee (MLAI-SC), the National AI Initiative Office (NAIIO), and the Networking and Information Technology Research and Development (NITRD) National Coordination Office (NCO), requests input from all interested parties on updating the National Artificial Intelligence Research and Development Strategic Plan. Through this Request for Information (RFI), OSTP, the Select Committee, NAIIO, and NITRD NCO seek input from the public, including academic, State, and industry groups; those directly performing Artificial Intelligence (AI) research and development (R&D); and those directly affected by such R&D, on the ways in which the strategic plan should be revised and improved. The public input provided in response to this RFI will assist OSTP, the Select Committee, MLAI-SC, NAIIO, and NITRD NCO in updating the National Artificial Intelligence Research and Development Strategic Plan.

DATES: Interested persons are invited to submit comments on or before 11:59 p.m. (ET) on March 4, 2022.

ADDRESSES: Comments submitted in response to this notice may be sent by any of the following methods:

• Email: AI-RFI@nitrd.gov. Email submissions should be machine-readable and not be copy-protected. Submissions should include “RFI Response: National Artificial Intelligence Research and Development Strategic Plan” in the subject line of the message.

• Mail: AI R&D RFI Response Team, Attn: Faisal D'Souza, NCO, 2415 Eisenhower Avenue, Alexandria, VA 22314, USA.

Instructions: Response to this RFI is voluntary. Each individual or institution is requested to submit only one response. Submissions must not exceed 10 pages (exclusive of a cover page) in 12 point or larger font, with a page number provided on each page. Responses should include the name of the person(s) or organization(s) filing the comment.

Responses to this RFI may be posted online at https://www.ai.gov. Therefore, we request that no business proprietary information, copyrighted information, or personally identifiable information be submitted in response to this RFI.

In accordance with FAR 15.202(3), responses to this notice are not offers and cannot be accepted by the Government to form a binding contract. Responders are solely responsible for all expenses associated with responding to this RFI.

FOR FURTHER INFORMATION CONTACT: Faisal D'Souza at 202-459-9681 or AI-RFI@nitrd.gov, or by post mailing to 2415 Eisenhower Avenue, Alexandria, VA 22314, USA. Individuals who use a telecommunications device for the deaf (TDD) may call the Federal Information Relay Service (FIRS) at 1-800-877-8339 between 8 a.m. and 8 p.m. (ET) Monday through Friday.

SUPPLEMENTARY INFORMATION: Background: In 2019, the National Artificial Intelligence Research and Development Strategic Plan: 2019 Update was released by NSTC's Select Committee on AI to guide government efforts in AI R&D. The plan set out eight strategic aims:

Strategy 1: Make long-term investments in AI research.

Strategy 2: Develop effective methods for human-AI collaboration.

Strategy 3: Understand and address the ethical, legal, and societal implications of AI.

Strategy 4: Ensure the safety and security of AI systems.

Strategy 5: Develop shared public datasets and environments for AI training and testing.

Strategy 6: Measure and evaluate AI technologies through standards and benchmarks.

Strategy 7: Better understand the national AI R&D workforce needs.

Strategy 8: Expand Public-Private Partnerships to accelerate advances in AI.

On January 01, 2021, the National AI Initiative Act of 2020, as part of the National Defense Authorization Act for FY2021 5103(d)(2) became law. The National AI Initiative Act calls for regular updates to the National AI R&D Strategic Plan to include “goals, priorities, and metrics for guiding and evaluating how the agencies carrying out the National AI Initiative will:

(A) Determine and prioritize areas of artificial intelligence research, development, and demonstration requiring Federal Government leadership and investment;

(B) support long-term funding for interdisciplinary artificial intelligence research, development, demonstration, and education;

(C) support research and other activities on ethical, legal, environmental, safety, security, bias, and other appropriate societal issues related to artificial intelligence;

(D) provide or facilitate the availability of curated, standardized, secure, representative, aggregate, and privacy-protected data sets for artificial intelligence research and development;

(E) provide or facilitate the necessary computing, networking, and data facilities for artificial intelligence research and development;

(F) support and coordinate Federal education and workforce training activities related to artificial intelligence; and

(G) support and coordinate the network of artificial intelligence research institutes.”

The OSTP, the Select Committee, MLAI-SC, NAIIO, and NITRD NCO seek input on potential revisions to the strategic plan to reflect updated priorities related to AI R&D. Responses could include suggestions as to the addition, removal, or modification of strategic aims, including suggestions to address OSTP's priorities of ensuring the United States leads the world in technologies that are critical to our economic prosperity and national security, and to maintaining the core values behind America's scientific leadership, including openness, transparency, honesty, equity, fair competition, objectivity, and democratic values. Responses could include suggestions of AI R&D focus areas that could create solutions to address societal issues such as equity, climate change, healthcare, and job opportunities, especially in communities that have been traditionally underserved. Comments for the strategic plan are welcomed regarding how AI R&D can help address harms due to disparate treatment of different demographic groups; research that informs the intersection of AI R&D and application with privacy and civil liberties; AI R&D to help address the underrepresentation of certain demographic groups in the AI workforce; and AI R&D to evaluate and address bias, equity, or other concerns related to the development, use, and impact of AI. Responses could also include comments on strategic directions related to international cooperation on AI R&D and on providing inclusive pathways for more Americans to participate in AI R&D. Additionally, comments are invited as to existing strategic aims, along with their past or future implementation by the Federal government. Following the receipt of comments, OSTP, the Select Committee, and NAIIO, in consultation with the NSTC Subcommittee on Machine Learning and AI and the NITRD AI R&D Interagency Working Group, will consider the input provided in updating the strategic plan.

Reference: National Artificial Intelligence Research and Development Strategic Plan: 2019 Update: https://www.nitrd.gov/pubs/National-AI-RD-Strategy-2019.pdf.

National Defense Authorization Act for FY2021 5103(d)(2): https://www.congress.gov/116/crpt/hrpt617/CRPT-116hrpt617.pdf#page=1214.

Submitted by the Office of Science and Technology Policy on January 28, 2022.

Stacy Murphy,
Operations Manager, White House Office of Science and Technology Policy.

[FR Doc. 2022-02161 Filed 2-1-22; 8:45 am]

BILLING CODE 3270-F1-P